DEPARTMENT OF AGRICULTURE

Animal and Plant Health Inspection Service

7 CFR Part 301

[Docket No. APHIS-2006-0116]

Gypsy Moth Generally Infested Areas; Addition of Counties in Ohio and West Virginia

AGENCY: Animal and Plant Health Inspection Service, USDA.

ACTION: Affirmation of interim rule as final rule.

SUMMARY: We are adopting as a final rule, without change, an interim rule that amended the gypsy moth regulations by adding Delaware and Franklin Counties in Ohio and Monroe County in West Virginia to the list of generally infested areas based upon the detection of infestations of gypsy moth in those counties. As a result of the interim rule, the interstate movement of regulated articles from those areas is restricted. The interim rule was necessary to prevent the artificial spread of the gypsy moth to noninfested States.

DATES: Effective on July 27, 2007, we are adopting as a final rule the interim rule published at 71 FR 53546-53547 on September 12, 2006.

FOR FURTHER INFORMATION CONTACT: Dr. Weyman Fussell, Program Manager, Pest Detection and Management Programs, PPQ, APHIS, 4700 River Road Unit 134, Riverdale, MD 20737-1231; (301) 734-5705.

SUPPLEMENTARY INFORMATION:

Background

The gypsy moth, Lymantria dispar (Linnaeus), is a destructive pest of forest and shade trees. The gypsy moth regulations (contained in 7 CFR 301.45 through 301.45-12 and referred to below as the regulations) restrict the interstate movement of regulated articles from generally infested areas to prevent the artificial spread of the gypsy moth.

In an interim rule ¹ effective and published in the Federal Register on September 12, 2006 (71 FR 53546-53547, Docket No. APHIS-2006-0116), we amended the gypsy moth regulations by adding Delaware and Franklin Counties in Ohio and Monroe County in West Virginia to the list of generally infested areas. Comments on the interim rule were required to be received on or before November 13, 2006. We did not receive any comments. Therefore, for the reasons given in the interim rule, we are adopting the interim rule as a final rule.

¹ To view the interim rule, go to http://www.regulations.gov, click on the “Advanced Search” tab, and select “Docket Search.” In the Docket ID field, enter APHIS-2006-0116, then click “Submit.” Clicking on the Docket ID link in the search results page will produce the document in the docket.

[Comment1]Two of the three counties?

This action also affirms the information contained in the interim rule concerning Executive Orders 12866, 12372, and 12988, and the Paperwork Reduction Act. Further, for this action, the Office of Management and Budget has waived its review under Executive Order 12866.

Regulatory Flexibility Act

The following analysis addresses the economic effects of the interim rule on small entities, as required by the Regulatory Flexibility Act. The rule affected the interstate movement of regulated articles, including forest products (logs, pulpwood, wood chips) and Christmas trees, nursery stock, and mobile homes and outdoor household articles from and through Delaware and Franklin Counties in Ohio and Monroe County in West Virginia.

Most of the area of the three counties now considered generally infested are on the fringe of generally infested areas and do not have high levels of infestation. In the three newly quarantined counties, there are 161 establishments that produce and ship regulated articles. Many of the establishments are in areas where there is negligible or no infestation. Of these, 38 are Christmas tree growers and 123 are nurseries. Nearly 99 percent of the establishments are considered to be small businesses. Sales of forest products and Christmas trees in the affected counties in 2002 were valued at $33 million, representing about 6.7 percent of the total values of such sales in the two States. There were 950 shipments of shrubs and trees, nursery items, and Christmas trees. Of those, only 200 shipments were to non-regulated areas.

The regulatory requirements of the regulations are expected to cause a slight increase in the costs of business for affected entities. However, any negative economic effects are small when compared with the potential for harm to the forest industry and the U.S. economy as a whole that would result from the spread of the pest. Since the total value of regulated articles moved from the affected counties to non-regulated areas is a small fraction of the national total, the regulatory effect on national prices is expected to be insignificant. Additionally, since the regulations do not prohibit movement of regulated articles, articles that meet the requirements of the regulations can continue to enter the market. The overall impact upon price and competitiveness is expected to be insignificant.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 71 FR 53546-53547 on September 12, 2006.

Done in Washington, DC, this 23rd day of July 2007.
Kevin Shea,
Acting Administrator, Animal and Plant Health Inspection Service.

[FR Doc. E7-14527 Filed 7-26-07; 8:45 am]

BILLING CODE 3410-34-P